DEPARTMENT OF HOMELAND SECURITY

Coast Guard

33 CFR Part 117

[Docket No. USCG-2015-0849]

Drawbridge Operation Regulations; New Jersey Intracoastal Waterway, Atlantic City, NJ and Delaware River, Delair, NJ

AGENCY: Coast Guard, DHS.

ACTION: Notice of deviation from drawbridge regulations.

SUMMARY: The Coast Guard has issued a temporary deviation from the operating schedules that govern the AMTRAK Bridge over Beach Thorofare, New Jersey Intracoastal Waterway, mile 68.9, at Atlantic City, NJ, and the AMTRAK Bridge over Delaware River, mile 104.6, at Delair, NJ. This deviation allows the bridges to remain in the closed-to-navigation position to facilitate the 2015 Papal Visit to Philadelphia, PA.

DATES: This deviation is effective from 5 a.m. on September 26, 2015, to 3 a.m. on September 28, 2015.

ADDRESSES: The docket for this deviation, [USCG-2015-0849], is available at http://www.regulations.gov. Type the docket number in the “SEARCH” box and click “SEARCH”. Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Hal R. Pitts, Bridge Administration Branch Fifth District, Coast Guard; telephone (757) 398-6222, email Hal.R.Pitts@uscg.mil. If you have questions on viewing the docket, call Cheryl Collins, Program Manager, Docket Operations, telephone 202-366-9826.

SUPPLEMENTARY INFORMATION: The New Jersey Transit, who owns and operates the AMTRAK Bridge over Beach Thorofare and AMTRAK Bridge over Delaware River, has requested a temporary deviation from the current operating regulations set out in 33 CFR 117.733(d) and 117.716, respectively, to facilitate movement of trains during the 2015 Papal Visit to Philadelphia, PA.

Under the normal operating schedule for the AMTRAK Bridge over Beach Thorofare, New Jersey Intracoastal Waterway, mile 68.9, at Atlantic City, NJ; the bridge shall open on signal from 11 p.m. to 6 a.m.; from 6 a.m. to 11 p.m., open on signal from 20 minutes to 30 minutes after each hour and remain open for all waiting vessels; opening of the draw may be delayed for ten minutes except as provide in 33 CFR 117.31(b); However, if a train is moving toward the bridge and has crossed the home signal for the bridge before the signal requesting the opening of the bridge is given, that train may continue across the bridge and must clear the bridge interlocks before stopping. Under the normal operating schedule for the AMTRAK Bridge over Delaware River, mile 104.6, at Delair, NJ, the bridgeneed not open when there is a train in the bridge block approaching the bridge with the intention of crossing, or within five minutes of the known time of the passage of a scheduled passenger train; the opening of a bridge may not be delayed for more than 10 minutes, after the signal to open is given. The vertical clearances in the closed-to-navigation position of the AMTRAK Bridge over Beach Thorofare and AMTRAK Bridge over Delaware River are 5 feet and 49 feet, respectively, above mean high water.

Under this temporary deviation, the bridges will not be required to open on signal or within ten minutes of a signal from 5 a.m. on September 26, 2015, to 3 a.m. on September 28, 2015. Mariners requesting an opening shall provide at least one hour notice and may be required to adjust their voyage plan to transit through the bridge at a specified time. Beach Thorofare, New Jersey Intracoastal Waterway is used by a variety of vessels including small commercial fishing vessels, recreational vessels and tug and barge traffic. The Delaware River is used by a variety of vessels including deep draft ocean-going vessels, small commercial fishing vessels, recreational vessels and tug and barge traffic. The Coast Guard has carefully coordinated the restrictions with commercial and recreational waterway users.

Vessels able to pass through the bridges in the closed position may do so at anytime. The bridges will be able to open for emergencies and there is no alternate route for vessels unable to pass through the bridges in the closed position. The Coast Guard will also inform the users of the waterways through our Local and Broadcast Notice to Mariners of the change in operating schedules for these bridges so that vessels can arrange their transits to minimize any impacts caused by this temporary deviation.

In accordance with 33 CFR 117.35(e), the drawbridges must return to their regular operating schedules immediately at the end of the effective period of this temporary deviation. This deviation from the operating regulations is authorized under 33 CFR 117.35.

Dated: September 10, 2015.
Hal R. Pitts,
Bridge Program Manager, Fifth Coast Guard District.

[FR Doc. 2015-23342 Filed 9-16-15; 8:45 am]

BILLING CODE 9110-04-P